DEPARTMENT OF AGRICULTURE

Agricultural Marketing Service

[Doc. No. AMS-FGIS-23-0029]

Opportunity for United States Grain Standards Act Designation in Decatur, IN and Marshall, MI

AGENCY: Agricultural Marketing Service, USDA.

ACTION: Notice; request for comments.

SUMMARY: The Agricultural Marketing Service (AMS) is seeking persons or governmental agencies interested in providing official services in the areas noted below to submit an application for designation. Designation provides for private entities or State governmental agencies to be an integral part of the official grain inspection system (https://www.ams.usda.gov/services/fgis/official-grain-inspection-weighing-system). Designated agencies work under the supervision of the Federal Grain Inspection Service (FGIS) and are authorized to provide official inspection and weighing services in a defined geographic area, as appropriate. In addition, we request comments on the quality of services provided by designated agency Michigan Grain Inspection Services, Inc. (Michigan Grain Inspection). AMS encourages submissions from traditionally underrepresented individuals, organizations, and businesses to reflect the diversity of this industry. AMS encourages submissions from qualified applicants, regardless of race, color, age, sex, sexual orientation, gender identity, national origin, religion, disability status, protected veteran status, or any other characteristic protected by law.

DATES: Applications for the Decatur, IN, designation area must be received by 11:59 p.m. eastern time on December 15, 2023.

Applications and comments for the Marshall, MI, designation area, which is currently operated by Michigan Grain Inspection, must be received between January 1, 2024, and January 31, 2024.

ADDRESSES: Submit applications and comments concerning this notice using the following methods:

To apply for USGSA designation: You will need to obtain an FGISonline customer number (CIM) and create a USDA eAuthentication account at https://www.eauth.usda.gov/eauth/b/usda/home prior to applying. Then go to FGISonline at https://fgisonline.ams.usda.gov/ and click on the Delegations/Designations and Export Registrations (DDR) link. Applicants are encouraged to begin the designation application process early and allow time for system authentication.

To submit comments regarding current designated official agencies: Go to Regulations.gov (https://www.regulations.gov). Instructions for submitting and reading comments are detailed on the site.

Interested persons are invited to submit written comments concerning this notice. All comments must be submitted through the Federal e-rulemaking portal at https://www.regulations.gov and should reference the document number and the date and page number of this issue of the Federal Register. All comments submitted in response to this notice will be included in the record and will be made available to the public. Please be advised that the identity of the individuals or entities submitting comments will be made public on the internet at the address provided above.

To read applications and comments: If you would like to view the applications, please contact FGISQACD@usda.gov. All comments will be available for public viewing online at https://www.regulations.gov.

FOR FURTHER INFORMATION CONTACT: J. Ricardo Espitia, Compliance Officer, Federal Grain Inspection Service, AMS, USDA; Telephone: (202) 699-0246; or Email: Jose.Espitia@usda.gov or FGISQACD@usda.gov.

SUPPLEMENTARY INFORMATION: The U. S. Department of Agriculture (USDA) revoked Northeast Indiana Grain Inspection Inc.'s designation as an agency that may perform official grain inspection and weighing services on August 21, 2023, due to its failure to comply with requirements of the United States Grain Standards Act (USGSA). Further information and documentation on this legal matter can be received by contacting the USDA Hearing Clerk's office at 202.720.4443 or via email at SM.OHA.hearingclerks@usda.gov. Due to the designation revocation in this territory, USDA seeks new applicants for the Decatur, IN, designation area. Applications must be received by December 15, 2023.

Additionally, the designation of the official agency listed below will end on the prescribed date:

Official agency | Headquarters location and telephone | Designation End | Applications/comments open period
Michigan Grain Inspection Services, Inc | Marshall, MI, 269-781-2711 | 3/31/2024 | 01/01/2024-01/31/2024

Section 7(f) of the United States Grain Standards Act (USGSA) authorizes the Secretary to designate a qualified applicant to provide official services in a specified area after determining that the applicant is better able than any other applicant to provide such official services (7 U.S.C. 79(f)). A designated agency may provide official inspection service and/or Class X or Class Y weighing services at locations other than port locations. Under section 7(g) of the USGSA, designations of official agencies are effective for no longer than five years, unless terminated by the Secretary, and may be renewed according to the criteria and procedures prescribed in section 7(f) of the USGSA. Please see the regulation at 7 CFR 800.196 for further information and guidance.

Designation Application Locations

The following identifies the specific areas of operation for designation applications.

Decatur, Indiana: The designation area includes parts of Indiana. Please see the December 12, 2016, issue of the Federal Register (81 FR 89428) for a description of the area open for designation. The designation area is listed under the subheading titled “IN INDIANA.”

Marshall, Michigan: The designation area includes parts of Michigan and Ohio. Please see the March 29, 2016, issue of the Federal Register (81 FR 17428-17431) for a description of the area open for designation. The designation area is listed under the subheading titled “Marshall, MI.”

Opportunity for Designation

Interested persons or governmental agencies may apply for designation to provide official services in the geographic areas of the official agencies specified above under the provisions of section 7(f) of the USGSA and 7 CFR 800.196. Designation in the specified geographic area in the Decatur, IN, area will begin after a designation decision is issued by the Agricultural Marketing Service. The designation in the specified geographic area for Michigan is expected to begin no sooner than April 1, 2024. If you have questions about how to apply for designation or wish to request more information on the geographic areas open for designation, please contact FGISQACD@usda.gov.

Please note that sampling, weighing, and inspection services may be offered by designated agencies under the Agricultural Marketing Act of 1946 for other commodities under the auspices of FGIS through separate cooperative service agreements with AMS. The service area for such cooperative agreements mirrors the USGSA designation area. For further information, see 7 U.S.C. 1621 et seq. or contact FGISQACD@usda.gov.

Authority: 7 U.S.C. 71-87k.

Melissa Bailey,
Associate Administrator, Agricultural Marketing Service.

[FR Doc. 2023-25145 Filed 11-14-23; 8:45 am]

BILLING CODE P